DEPARTMENT OF AGRICULTURE

Office of the Secretary

[Docket No. 01-082-1]

Declaration of Emergency Because of Infectious Salmon Anemia

Infectious salmon anemia (ISA) is a foreign animal disease of Atlantic salmon caused by an orthomyxovirus. While this virus appears to only cause disease in Atlantic salmon, both wild and farmed, sea run brown trout, rainbow trout, and other wild fish such as herring may act as carriers or reservoirs of the virus. Since its first isolation in Norway in 1984, it has also been found in Canada and Scotland. ISA may also be called hemorrhagic kidney syndrome (HKS) in Atlantic salmon. The first case of ISA in the United States was confirmed on February 15, 2001. As of June 25, 2001, eight cases have been confirmed in Maine.

Clinical signs of ISA generally appear within 2 to 4 weeks after infection and include lethargy, swelling and hemorrhaging of the kidneys and other organs, protruding eyes, pale gills, darkening of the posterior gut, and swelling of the spleen. Mortality is highly variable and can range from 3 percent to over 50 percent over one production cycle, depending on a number of factors.

Transmission occurs by direct contact, through parts from infected fish (mucus, blood, viscera, trimmings, feces), contact with equipment contaminated with parts from infected fish, people who handled infected fish, and sea lice. Salmon pens within 3 miles of infected farms or processing plants handling infected fish without adequate waste treatment have up to 13 times greater risk of becoming infected with ISA.

The State of Maine has taken steps to prevent further spread of ISA; however, the State lacks sufficient funding and personnel to effectively control this disease, which poses a potentially serious threat to animal health and the U.S. economy. Therefore, State officials have asked the United States Department of Agriculture (USDA) to assist with epidemiology, surveillance, and indemnification programs. Our goal is to control and contain the disease through rapid detection and depopulation of salmon that have been infected with or exposed to ISA.

We believe the virus can be controlled and contained within high-risk zones through surveillance, vaccination, and best management practices. Control of ISA requires depopulation of all pens holding infected fish, but the risk of loss of stock without indemnification makes it less likely that farmers will report outbreaks, and currently, farmers are under no obligation to report the occurrence of fish disease to the Animal and Plant Health Inspection Service (APHIS) of the USDA. Indemnification is necessary to provide an incentive for farmers to report diseased fish and to continue testing.

Vaccination appears to be a potentially effective means of controlling ISA. If vaccines now being tested prove to be efficacious, restocking affected zones with vaccinated smolts could reduce the incidence and spread of ISA. APHIS could be instrumental in vaccine development and providing permits for vaccine distribution.

Successful control of ISA also requires extensive surveillance. Current surveillance in the high-risk zones of Maine's Cobscook and Passamaquoddy Bays has been limited to once per month because of that State's budgetary and personnel considerations. Elsewhere, surveillance has been limited to a quarterly basis. To control ISA, it is vital that all sites, both high- and low-risk, undergo monthly surveillance.

Canada has been seriously affected by ISA. Fish farmers in that country have lost $70 million (in U.S. dollars) as a result of the virus, and Canada's Federal and Provincial governments have contributed over $29.5 million (in U.S. dollars) to compensate salmon farmers. As a result of a comprehensive ISA program that includes indemnification, Canada has reduced the incidence of ISA from 18 infected sites in 1998 to 4 infected sites in 2001.

In addition to posing a significant worldwide risk to the economic viability and sustainability of salmon aquaculture, ISA poses a specific threat to the United States. Salmon production in Maine exceeds 36.2 million pounds annually, with a value of $101 million. Outbreaks of ISA in Maine have already cost that State's salmonid industry approximately $11 million due to the depopulation of infected or exposed salmon. This loss is greater when capital expenditures such as labor costs and equipment are considered.

These lost revenues have more significant effects. Resulting budgetary effects have compromised efforts by the State of Maine and by the salmonid industry to control ISA. Additionally, the devastating effects of the virus reach the economies of other States and have serious ramifications for international trade. For example, when ISA emerged in Maine, Chile and the European Union prohibited the importation of trout and salmon eggs from the States of Washington, Maine, and Idaho. The resulting trade loss is estimated at $2 million for 2001.

Therefore, in order to address the ISA threat to the U.S. salmonid industry, APHIS has determined that additional funds are needed for an ISA control program. In addition to the payment of indemnity, these funds will be used for program activities such as depopulation and disposal, clean-up and disinfection, establishment of surveillance programs, epidemiology and diagnostic support, and training for producers and veterinarians. These activities will reduce the spread of ISA and should save the Federal Government and salmonid industry from having to deal with a more costly and widespread problem in the future.

Therefore, in accordance with the provisions of the Act of September 25, 1981, as amended (7 U.S.C. 147b), I declare that there is an emergency that threatens the livestock industry of this country and hereby authorize the transfer and use of such funds as may be necessary from appropriations or other funds available to the agencies or corporations of the United States Department of Agriculture to establish an ISA control program in the United States.

EFFECTIVE DATE: This declaration of emergency shall become effective December 13, 2001.

Ann M. Veneman,
Secretary of Agriculture.

[FR Doc. 01-31365 Filed 12-19-01; 8:45 am]

BILLING CODE 3410-34-U